DEPARTMENT OF HEALTH AND HUMAN SERVICES

Centers for Disease Control and Prevention

National Task Force on Fetal Alcohol Syndrome and Fetal Alcohol Effect

In accordance with section 10(a)(2) of the Federal Advisory Committee Act (Pub. L. 92-463), the Centers for Disease Control and Prevention (CDC) announces the following meeting of the aforementioned committee:

Time and Date: 12 p.m.-2 p.m., October 24, 2007.

Place: The conference call will originate at the National Center on Birth Defects and Developmental Disabilities (NCBDDD), in Atlanta, Georgia. Please see Supplementary Information for details on accessing the conference call.

Status: Open to the public, limited only by the availability of telephone ports.

Purpose: The Secretary is authorized by the Public Health Service Act, Section 399G, (42 U.S.C. Section 280f, as added by Pub. L. 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters to be Discussed: The Task Force will convene via conference call to: (1) Discuss and vote on the Task Force report, “Reducing Alcohol-Exposed Pregnancies,” (2) provide an update on approved Task Force document, “Call to Action: Ensuring Research and Essential Services for Persons with FASDs and their Caregivers”, and (3) discuss plans for disseminating final Task Force products.

Agenda items are subject to change as priorities dictate.

Supplementary Information: This conference call is scheduled to begin on October 24, 2007 at 12 p.m., Eastern Standard Time. To participate in the conference call, please dial 1 (866) 619-1481 and enter conference passcode 4832402. You will then be automatically connected to the call.

Contact Person for More Information: Mary Kate Weber, M.P.H., Designated Federal Officer, NBDDD, CDC, 1600 Clifton Road, NE., Mailstop E-86, Atlanta, Georgia 30333. Telephone (404) 498-3926, Fax (404) 498-3550.

The Director, Management Analysis and Services Office, has been delegated the authority to sign Federal Register notices pertaining to announcements of meetings and other committee management activities for both the CDC and ATSDR.

Dated: October 2, 2007.
Elaine L. Baker,
Acting Director, Management Analysis and Services Office, Centers for Disease Control and Prevention (CDC).

[FR Doc. E7-19887 Filed 10-9-07; 8:45 am]

BILLING CODE 4163-18-P